FEDERAL MARITIME COMMISSION

Sunshine Act Meeting

AGENCY HOLDING THE MEETING: Federal Maritime Commission.

TIME AND DATE: August 17, 2011—10 a.m.

PLACE: 800 North Capitol Street, NW., First Floor Hearing Room, Washington, DC.

STATUS: Part of the meeting will be in Open Session and the remainder of the meeting will be in Closed Session.

Matters To Be Considered

Open

1. Staffing Briefing and Discussion of Draft Proposed Rule on Passenger Vessel Financial Responsibility Requirements.

Closed

1. Staff Briefing and Recommendation Regarding Special Reporting Requirements for the Transpacific Stabilization Agreement and the Westbound Transpacific Stabilization Agreement.

2. Staff Update and Discussion of PierPass Traffic Mitigation Fee.

3. Container Freight Index and Derivatives Working Group—Update on Index-Based Service Contract Filings and Regulatory Issues.

4. Staff Briefing and Discussion of the Reconstruction Proceedings and Chapter 15 Bankruptcy Petition of the Containership Company A/S.

CONTACT PERSON FOR MORE INFORMATION: Karen V. Gregory, Secretary, (202) 523-5725.

Karen V. Gregory,
Secretary.

[FR Doc. 2011-20648 Filed 8-10-11; 11:15 am]

BILLING CODE 6730-01-P